DEPARTMENT OF COMMERCE

National Oceanic and Atmospheric Administration

50 CFR Part 635

[Docket No. 981216308-9124-02; I.D. 040500B]

RIN 0648-AJ67

Atlantic Highly Migratory Species (HMS) Fisheries; Vessel Monitoring Systems

AGENCY: National Marine Fisheries Service (NMFS), National Oceanic and Atmospheric Administration (NOAA), Commerce.

ACTION: Delay of effectiveness.

SUMMARY: NMFS delays until October 1, 2000, the effective date of a section of a final rule published May 28, 1999, which requires certain vessel owner/operators to install a NMFS-approved vessel monitoring system (VMS).

DATES: The effective date of 50 CFR 635.69 is 12:01 a.m. October 1, 2000.

ADDRESSES: Copies of the Highly Migratory Species Fishery Management Plan (HMS FMP), the final rule and supporting documents can be obtained from Chris Rogers, Acting Chief, Highly Migratory Species Division, Office of Sustainable Fisheries, NMFS, 1315 East-West Highway, Silver Spring, MD 20910.

FOR FURTHER INFORMATION CONTACT: Steve Meyers, NMFS, (301) 713-2347, or Buck Sutter and Jill Stevenson (727) 570-5447.

SUPPLEMENTARY INFORMATION: The final regulations to implement the HMS FMP and Amendment 1 to the Atlantic Billfish Fishery Management Plan (64 FR 29090, May 28, 1999) included a provision requiring an owner or operator of a commercial vessel permitted to fish for Atlantic HMS under § 635.4 and that fishes with a pelagic longline to install a NMFS-approved VMS unit on board the vessel and operate the VMS unit whenever the vessel leaves port with pelagic longline gear on board. The VMS requirement of the final rule (§ 635.69) was to be effective September 1, 1999.

On August 9, 1999, NMFS delayed the effective date of this final rule until January 1, 2000 (64 FR 43101). On October 14, 1999, NMFS again delayed the effective date of this final rule until June 1, 2000 (64 FR 55633). On April 19, 2000, NMFS further delayed the effective date of implementation of the VMS regulations until September 1, 2000 (65 FR 20918).

On August 1, 2000, NMFS published a final rule (65 FR 47214) to reduce bycatch by prohibiting the use of pelagic longline fishing gear in three areas: the year-round DeSoto Canyon closure in the Gulf of Mexico starting November 1, 2000; the year round East Florida Coast closure beginning on February 1, 2001; and the seasonal Charleston Bump closure from February 1 through April 30 each year, beginning in 2001.

Since publication of the final rule implementing the time area closures, NMFS has received several requests for an additional delay of the VMS requirement until the effective dates of the new closed areas (November 1, 2000 in the Gulf of Mexico and February 1, 2001 in the Atlantic Ocean). These requests included the information that many vessels have not yet purchased VMS units, as vessel owners have been waiting for the resolution of litigation against NOAA Fisheries over the regulatory requirement for these devices.

Because the regulations implementing the new time area closures will not require the use of VMS for enforcement purposes until November 1, 2000 (the initial effective date of the DeSoto Canyon closed area), NMFS agrees that a short delay in the VMS requirement will not compromise NMFS' ability to enforce the fishery closures. An October 1, 2000, effective date would give an additional month for vessel owners to acquire and install the units. Although the designated Atlantic Ocean closed areas are not effective until February 1, 2001, requiring all vessels using pelagic longlines to operate VMS units in all fishing areas as of October 1, 2000 will facilitate tracking and monitoring of vessels as they begin to modify fishing practices in response to the bycatch reduction strategy.

NMFS thus delays the effective date of the VMS regulations at 50 CFR 635.69 until October 1, 2000.

Dated: August 10, 2000.
Penelope D. Dalton,
Assistant Administrator for Fisheries, National Marine Fisheries Services.

[FR Doc. 00-20717 Filed 8-10-00; 4:51 pm]

BILLING CODE 3510-22-F